DEPARTMENT OF ENERGY

Federal Energy Regulatory Commission

[Docket Nos. EL02-65-007 and RT01-88-021]

Ameren Services Company, Firstenergy Corp., Northern Indiana Public Service Company, National Grid Usa, Midwest Independent System Operator, Inc.; Notice of Filing

June 25, 2002.

Take notice that on June 20, 2002, Ameren Services Company (Ameren), acting as agent for its electric utility affiliates Union Electric Company d/b/a AmerenUE and Central Illinois Public Service Company d/b/a/ AmerenCIPS, FirstEnergy Corp. (FirstEnergy), on behalf of its subsidiary American Transmission Systems, Inc., Northern Indiana Public Service Company (NIPSCO), and the Midwest Independent System Operator, Inc. (MISO) tendered for filing a compliance filing in the above-referenced dockets. National Grid USA (National Grid) joined the filing to support it in full.

The compliance filing contains a letter of intent and a term sheet between Ameren, FirstEnergy, NIPSCO, and National Grid setting forth the terms to govern the negotiation of agreements providing for the formation of an independent transmission company (ITC), to be called GridAmerica LLC, under the provisions of Appendix I MISO's Open Access Transmission Tariff. GridAmerica will be formed as an LLC with National Grid as the managing member. Ameren, FirstEnergy, and NIPSCO will turn over functional control of their transmission facilities to GridAmerica pursuant to Operation Agreements.

The compliance filing also contains a letter of intent and a term sheet between Ameren, FirstEnergy, NIPSCO, National Grid, and MISO setting forth the terms to govern negotiation of the Appendix I service agreement pursuant to which GridAmerica LLC will join the MISO. The Appendix I service agreement will delineate those functions to be performed by GridAmerica and those to be performed by MISO. This filing was made to comply in full with the terms of the Commission's April 25, 2002 order in this proceeding and with Order No. 2000.

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Comment Date: July 22, 2002.

Linwood A. Watson, Jr.,
Deputy Secretary.

[FR Doc. 02-16484 Filed 6-28-02; 8:45 am]

BILLING CODE 6717-01-P